ENVIRONMENTAL PROTECTION AGENCY

[EPA-HQ-OPPT-2024-0057; FRL-11683-05-OCSPP]

Certain New Chemicals; Receipt and Status Information for May 2024

AGENCY: Environmental Protection Agency (EPA).

ACTION: Notice.

SUMMARY: EPA is required under the Toxic Substances Control Act (TSCA), as amended by the Frank R. Lautenberg Chemical Safety for the 21st Century Act, to make information publicly available and to publish information in the Federal Register pertaining to submissions under TSCA Section 5, including notice of receipt of a Premanufacture notice (PMN), Significant New Use Notice (SNUN) or Microbial Commercial Activity Notice (MCAN), including an amended notice or test information; an exemption application (Biotech exemption); an application for a test marketing exemption (TME), both pending and/or concluded; a notice of commencement (NOC) of manufacture (including import) for new chemical substances; and a periodic status report on new chemical substances that are currently under EPA review or have recently concluded review. This document covers the period from 5/01/2024 to 5/31/2024.

DATES: Comments identified by the specific case number provided in this document must be received on or before August 12, 2024.

ADDRESSES: Submit your comments, identified by docket identification (ID) number EPA-HQ-OPPT-2024-0057, through the Federal eRulemaking Portal at https://www.regulations.gov. Follow the online instructions for submitting comments. Do not submit electronically any information you consider to be Confidential Business Information (CBI) or other information whose disclosure is restricted by statute. Additional instructions on commenting and visiting the docket, along with more information about dockets generally, is available at https://www.epa.gov/dockets.

FOR FURTHER INFORMATION CONTACT:

For technical information contact: Jim Rahai, Project Management and Operations Division (MC 7407M), Office of Pollution Prevention and Toxics, Environmental Protection Agency, 1200 Pennsylvania Ave. NW, Washington, DC 20460-0001; telephone number: (202) 564-8593; email address: rahai.jim@epa.gov.

For general information contact: The TSCA-Hotline, ABVI-Goodwill, 422 South Clinton Ave., Rochester, NY 14620; telephone number: (202) 554-1404; email address: TSCA-Hotline@epa.gov.

SUPPLEMENTARY INFORMATION:

I. Executive Summary

A. What action is the Agency taking?

This document provides the receipt and status reports for the period from 5/01/2024 to 5/31/2024. The Agency is providing notice of receipt of PMNs, SNUNs, and MCANs (including amended notices and test information); an exemption application under 40 CFR part 725 (Biotech exemption); TMEs, both pending and/or concluded; NOCs to manufacture a new chemical substance; and a periodic status report on new chemical substances that are currently under EPA review or have recently concluded review.

EPA is also providing information on its website about cases reviewed under the amended TSCA, including the section 5 PMN/SNUN/MCAN and exemption notices received, the date of receipt, the final EPA determination on the notice, and the effective date of EPA's determination for PMN/SNUN/MCAN notices on its website at: https://www.epa.gov/reviewing-new-chemicals-under-toxic-substances-control-act-tsca/status-pre-manufacture-notices. This information is updated on a weekly basis.

B. What is the Agency's authority for taking this action?

Under the Toxic Substances Control Act (TSCA), 15 U.S.C. 2601 et seq., a chemical substance may be either an “existing” chemical substance or a “new” chemical substance. Any chemical substance that is not on EPA's TSCA Inventory of Chemical Substances (TSCA Inventory) is classified as a “new chemical substance,” while a chemical substance that is listed on the TSCA Inventory is classified as an “existing chemical substance.” (See TSCA section 3(11).) For more information about the TSCA Inventory please go to: https://www.epa.gov/inventory.

Any person who intends to manufacture (including import) a new chemical substance for a non-exempt commercial purpose, or to manufacture or process a chemical substance in a non-exempt manner for a use that EPA has determined is a significant new use, is required by TSCA section 5 to provide EPA with a PMN, MCAN, or SNUN, as appropriate, before initiating the activity. EPA will review the notice, make a risk determination on the chemical substance or significant new use, and take appropriate action as described in TSCA section 5(a)(3).

TSCA section 5(h)(1) authorizes EPA to allow persons, upon application and under appropriate restrictions, to manufacture or process a new chemical substance, or a chemical substance subject to a significant new use rule (SNUR) issued under TSCA section 5(a)(2), for “test marketing” purposes, upon a showing that the manufacture, processing, distribution in commerce, use, and disposal of the chemical will not present an unreasonable risk of injury to health or the environment. This is referred to as a test marketing exemption, or TME. For more information about the requirements applicable to a new chemical go to: https://www.epa.gov/chemicals-under-tsca.

Under TSCA sections 5 and 8 and EPA regulations, EPA is required to publish in the Federal Register certain information, including notice of receipt of a PMN/SNUN/MCAN (including amended notices and test information); an exemption application under 40 CFR part 725 (biotech exemption); an application for a TME, both pending and concluded; NOCs to manufacture a new chemical substance; and a periodic status report on the new chemical substances that are currently under EPA review or have recently concluded review.

C. Does this action apply to me?

This action provides information that is directed to the public in general.

D. Does this action have any incremental economic impacts or paperwork burdens?

No.

E. What should I consider as I prepare my comments for EPA?

1. Submitting confidential business information (CBI). Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at https://www.epa.gov/dockets/commenting-epa-dockets.

II. Status Reports

In the past, EPA has published individual notices reflecting the status of TSCA section 5 filings received, pending, or concluded. In 1995, the Agency modified its approach and streamlined the information published in the Federal Register after providing notice of such changes to the public and an opportunity to comment (see the Federal Register of May 12, 1995 (60 FR 25798) (FRL-4942-7)). Since the passage of the Lautenberg amendments to TSCA in 2016, public interest in information on the status of section 5 cases under EPA review and, in particular, the final determination of such cases, has increased. In an effort to be responsive to the regulated community, the users of this information, and the general public, to comply with the requirements of TSCA, to conserve EPA resources and to streamline the process and make it more timely, EPA is providing information on its website about cases reviewed under the amended TSCA, including the section 5 PMN/SNUN/MCAN and exemption notices received, the date of receipt, the final EPA determination on the notice, and the effective date of EPA's determination for PMN/SNUN/MCAN notices on its website at: https://www.epa.gov/reviewing-new-chemicals-under-toxic-substances-control-act-tsca/status-pre-manufacture-notices. This information is updated on a weekly basis.

III. Receipt Reports

For the PMN/SNUN/MCANs that have passed an initial screening by EPA during this period, Table I provides the following information (to the extent that such information is not subject to a CBI claim) on the notices screened by EPA during this period: The EPA case number assigned to the notice that indicates whether the submission is an initial submission, or an amendment, a notation of which version was received, the date the notice was received by EPA, the submitting manufacturer (i.e., domestic producer or importer), the potential uses identified by the manufacturer in the notice, and the chemical substance identity.

As used in each of the tables in this unit, (S) indicates that the information in the table is the specific information provided by the submitter, and (G) indicates that this information in the table is generic information because the specific information provided by the submitter was claimed as CBI. Submissions which are initial submissions will not have a letter following the case number. Submissions which are amendments to previous submissions will have a case number followed by the letter “A” (e.g., P-18-1234A). The version column designates submissions in sequence as “1”, “2”, “3”, etc. Note that in some cases, an initial submission is not numbered as version 1; this is because earlier version(s) were rejected as incomplete or invalid submissions. Note also that future versions of the following tables may adjust slightly as the Agency works to automate population of the data in the tables.

Table I—PMN/SNUN/MCANs Approved * From 5/01/2024 to 5/31/2024
Case No. | Version | Received date | Manufacturer | Use | Chemical substance
J-24-0005 | 1 | 04/23/2024 | Cargill, Incorporated | (G) Production of biofuel | (G) Biofuel-producing modified microorganism(s), with chromosomally borne modifications.
J-24-0006 | 1 | 04/23/2024 | Cargill, Incorporated | (G) Production of biofuel | (G) Biofuel-producing modified microorganism(s), with chromosomally borne modifications.
J-24-0007 | 1 | 04/23/2024 | Cargill, Incorporated | (G) Production of biofuel | (G) Biofuel-producing modified microorganism(s), with chromosomally borne modifications.
J-24-0008 | 1 | 04/23/2024 | Cargill, Incorporated | (G) Production of biofuel | (G) Biofuel-producing modified microorganism(s), with chromosomally borne modifications.
P-20-0144A | 6 | 05/08/2024 | CBI | (G) Asphalt emulsion applications | (S) Fatty acids, soya, reaction products with polyethylenepolyamines.
P-21-0165 | 1 | 05/02/2024 | Colonial Chemical, Inc | (S) Anionic surfactant in cleaning products | (S) D-Glucopyranose, oligomeric, C10-16-alkyl glycosides, 3-(3,4-dicarboxy-3-hydroxy-1-oxobutoxy)-2-hydroxypropyl ethers, sodium salts.
P-23-0084 | 1 | 05/02/2024 | Colonial Chemical, Inc | (S) Institutional cleaning products, hard surface cleaners, and cleaning in place applications | (G) Amides, vegetable oil, hydroxylated amine.
P-23-0085 | 1 | 05/02/2024 | Colonial Chemical, Inc | (S) Institutional cleaning products, hard surface cleaners, and cleaning in place applications | (G) Amides, soya, hydroxylated amine.
P-23-0173A | 2 | 05/10/2024 | CBI | (G) Component used in battery manufacturing | (G) Cellulose, alkoxyalkyl ether, alkali metal salt.
P-23-0173A | 3 | 05/28/2024 | CBI | (G) Component used in battery manufacturing | (G) Cellulose, alkoxyalkyl ether, alkali metal salt.
P-23-0174A | 10 | 05/28/2024 | CBI | (G) Component used in battery manufacturing | (G) Mixed metal oxide.
P-24-0027 | 5 | 05/29/2024 | Mikros Biochem | (S) Surfactant for cleaners | (S) Fatty acids, C8-14, 2,3-diesters with rel-(2R, 3S)-2,3,4-trihydroxybutyl Beta-D-mannopyranoside acetate.
P-24-0092 | 1 | 05/02/2024 | Colonial Chemical, Inc | (S) Institutional cleaning products, hard surface cleaners, and cleaning in place applications | (G) Fatty acid reaction products with diisopropanolamine.
P-24-0111A | 3 | 05/24/2024 | CBI | (S) Hardener for use in paints, coatings, and adhesives | (G) Formaldehyde, polymer with aminoalkyl-(aminoalkyl)amino(alkyl)-alkaneamine, alkanediylbis(oxyalkylene)(oxirane), 4,4′-(1-methylethylidene)bis[phenol] and 2,2′-[(1-methylethylidene)bis(4,1-phenyleneoxymethylene)]bis[oxirane], modified with (aminoalkyl)amino(alkyl)amino-phenoxy-alkanol and alkyl modified-ether, salts.
P-24-0113A | 3 | 05/08/2024 | CBI | (S) Adhesion and curing agent for use in paints and adhesives | (G) Epoxidized D-glucitol.
P-24-0116 | 2 | 05/09/2024 | CBI | (G) For use in coatings for metal parts | (G) Phenol, 4,4-(1-alkylidene)bis-, polymer with 2-(chloromethyl)oxirane, 4-alkylphenyl ether, reaction products with alkylpolyamine and 2-(alkylamino)alkanol, hydrolyzed, alkanesulfonates (salts).
P-24-0117 | 2 | 05/09/2024 | CBI | (G) For use in coatings for metal parts | (G) Alkanoic acid, compds. with hydrolyzed bisphenol-epichlorohydrin polymer 4-alkylphenyl ether- alkylpolyamine and 2-(alkylamino)alkanol reaction products.
P-24-0118 | 2 | 05/09/2024 | CBI | (G) For use in coatings for metal parts | (G) Alkanoic acid, compds. with [(aminoalkyl)imino]bis[alkanol]-bisphenol-epichlorohydrin polymer 4-alkylphenyl ether—2-(alkylamino)alkanol reaction products.
P-24-0119 | 2 | 05/09/2024 | CBI | (G) For use in coatings for metal parts | (G) Amidosulfonic acid, compds. with with [(aminoalkyl)imino]bis[alkanol]-bisphenol-epichlorohydrin polymer 4-alkylphenyl ether—2-(alkylamino)alkanol reaction products.
P-24-0120 | 2 | 05/09/2024 | CBI | (G) For use in coatings for metal parts | (G) Alkanoic acid, compds. with hydrolyzed bisphenol-monoalkylamine-epichlorohydrin polymer 4-alkylphenyl ether-alkylpolyamine and 2-(alkylamino)alkanol reaction products.
P-24-0121 | 2 | 05/09/2024 | CBI | (G) For use in coatings for metal parts | (G) Phenol, 4,4-(1-alkylidene)bis-, polymer with 2-(chloromethyl)oxirane and monoalkanamine, 4-alkylphenyl ether, reaction products with alkylpolyamine and 2-(alkylamino)alkanol, hydrolyzed, alkanesulfonates (salts).
P-24-0127 | 2 | 05/14/2024 | CBI | (S) Hardener for use in paints, coatings, and adhesives | (G) Phenol, polymer with bisphenol A, modified bisphenol A, epichlorohydrin, modified phenoxyalkyl and alkylamine, acetate (salt).
P-24-0128 | 3 | 05/29/2024 | CBI | (S) Chemical intermediate | (G) Tetramethyldisiloxanediylbis[propylcarbonyl].
P-24-0130A | 2 | 05/13/2024 | CBI | (S) Sulfur Scavenger | (G) Poly(alkoxy)alkanol.
P-24-0133 | 2 | 05/02/2024 | Wacker Chemical Corporation | (G) Thread and textile treatment | (S) Siloxanes and Silicones, di-Me, hydrogen-terminated, polymers with 1,6-diisocyanatohexane and polyethylene glycol monoallyl ether, N3-[3-(dimethylamino)propyl]-N1,N1-dimethy1-1,3-propanediamine-blocked.
P-24-0135A | 3 | 05/02/2024 | ArrMaz Products, Inc | (S) Anti-caking additive | (S) Phosphoric acid, mono- and di-C16-18-alkyl esters.
P-24-0136 | 3 | 05/28/2024 | CBI | (G) Crosslinking polymer | (G) Siloxanes and Silicones, di-Me, polymers with silicic acid, [(ethenyldimethylsilyl)oxyl]-terminated, reaction products with [(alkoxysilyl)ethyl]siloxane and [(alkoxysilyl)ethyl]siloxane.
P-24-0139 | 3 | 05/14/2024 | CBI | (G) Automotive refinish coating | (G) Maleic acid, dibutyl ester, reaction products with isophoronediamine-5-isocyanato-1-(isocyanatomethyl)-1,3,3-trimethylcyclohexane-trimethylolpropane triacrylate polymer, di-Bu maleate and di-Et maleate.
P-24-0141 | 2 | 05/01/2024 | CBI | (G) Fuel additive | (G) 2-Propenoic acid, reaction products with alkylamine.
P-24-0142 | 1 | 04/21/2024 | Samsung SDI America, Inc | (S) Leveling agent used in semiconductor manufacturing | (G) 2-alkenoic acid fluorinated ester, polymer with alkyloxirane homopolymer monoether with 1,2-alkanediol, mono-alkenoate, alkylperoxoate initiated.
P-24-0144 | 2 | 05/13/2024 | CBI | (G) Industrial Raw Material | (G) Unsaturated carboxylic acid copolymer with 2-Methyl substituted poly(ethylene glycol) diol.
P-24-0145 | 3 | 05/14/2024 | CBI | (G) Automotive refinish coating | (G) 2-Butenedioic acid (2Z)-, 1,4-bis(2-ethylhexyl) ester, reaction products with 5-amino-1,3,3-trimethylcyclohexanemethanamine-hexamethylene diacrylate-isophorone diisocyanate polymer and di-Bu maleate.
P-24-0145A | 4 | 05/24/2024 | CBI | (G) Automotive refinish coating | (G) 2-Butenedioic acid (2Z)-, 1,4-bis(2-ethylhexyl) ester, reaction products with 5-amino-1,3,3-trimethylcyclohexanemethanamine-hexamethylene diacrylate-isophorone diisocyanate polymer and di-Bu maleate.
P-24-0147 | 1 | 05/02/2024 | CBI | (G) Component used in drilling operations | (G) Vinylhalo dialkylester, Vinylhalo dialkylester, Vinylhalo dialkylester;.
P-24-0148 | 1 | 05/06/2024 | CBI | (G) Display Material | (G) Substituted polyphenyl, alkyl-fluoro-alkyl.
P-24-0149 | 1 | 05/06/2024 | CBI | (G) Display Material | (G) Substituted polyphenyl, alkyl-polyfluoro-alkyl-.
P-24-0150 | 1 | 05/06/2024 | CBI | (G) Display Material | (G) Substituted polyphenyl, alkyl-alkyl-polyfluoro-.
P-24-0151 | 1 | 05/06/2024 | CBI | (G) Display Material | (G) Substituted polyphenyl, alkyl-alkyl-fluoro-.
P-24-0152 | 1 | 05/08/2024 | CBI | (G) Display Material | (G) Phenyl carboxylic acid, alkylcycloalkyl, phenylalkanediyl ester.

In Table II of this unit, EPA provides the following information (to the extent that such information is not claimed as CBI) on the NOCs that have passed an initial screening by EPA during this period: The EPA case number assigned to the NOC including whether the submission was an initial or amended submission, the date the NOC was received by EPA, the date of commencement provided by the submitter in the NOC, a notation of the type of amendment (e.g., amendment to generic name, specific name, technical contact information, etc.) and chemical substance identity.

Table II—NOCs Approved * From 5/01/2024 to 5/31/2024
Case No. | Received date | Commencement date | If amendment, type of amendment | Chemical substance
P-18-0014 | 05/01/2024 | 04/22/2024 | N | (G) Sulfonium, triphenyl-, salt with disubstituted-heterocyclic compound (1:1).
P-18-0223 | 05/16/2024 | 05/13/2024 | N | (S) Heptane, 3,3-bis(methoxymethyl)-2,6-dimethyl-.
P-20-0122 | 05/01/2024 | 04/22/2024 | N | (G) Heterocyclic onium compound with 1-substituted-alkyl 2,2,2-trisubstitutedalkyl 2-methyl-2-propenoate (1:1), polymer with acenaphthylene, 4- ethenyl-a,a-dimethylbenzenemethanol and 4-ethenylphenyl acetate, hydrolyzed.
P-20-0168 | 05/22/2024 | 05/17/2024 | N | (G) Polyolefin polyamine succinimide, carbopolycycle alkoxylated.
P-22-0030 | 05/10/2024 | 05/03/2024 | N | (G) Polyester with 1,4-benzenedicarboxylic acid, 2,2-dimethyl-1,3-propanediol, dodecanedioic acid, 1,2-ethanediol, aliphatic polyester, 3-hydroxy-2,2-dimethylpropyl 3-hydroxy-2,2-dimethylpropanoate, 1,3-isobenzofurandione and 1,1'-methylenebis[4-isocyanatobenzene].
P-22-0080 | 05/03/2024 | 04/05/2024 | N | (S) Poly(oxy-1,2-ethanediyl),,'-(iminodi-2,1-ethanediyl)bis[-(2-aminoethoxy)-.
P-22-0080 | 05/03/2024 | 04/05/2024 | N | (S) Poly(oxy-1,2-ethanediyl),-(2-aminoethyl)—(2-aminoethoxy)-.
P-22-0086 | 05/02/2024 | 04/09/2024 | N | (G) Phenoxathiinium, 10-phenyl-, 5-alkyl-2-alkyl-4-(2,4,6-substituted tri- carbopolycycle, hetero-acid)benzenesulfonate (1:1).
P-22-0131 | 05/10/2024 | 05/09/2024 | N | (S) Maltodextrin, hexadecanoate.
P-22-0132 | 05/10/2024 | 05/09/2024 | N | (S) Maltodextrin, decanoate.
P-22-0133 | 05/10/2024 | 05/09/2024 | N | (S) Maltodextrin, octadecanoate.
P-22-0139 | 05/02/2024 | 04/20/2024 | N | (G) Dialkylhydroxylamine.
P-22-0157 | 05/28/2024 | 05/28/2024 | N | (S) 1,2-ethanediamine, n,n-dimethyl-n-(1-methylethyl)-n-[2-[methyl(1-methylethyl)amino]ethyl]-.
P-23-0061 | 05/22/2024 | 04/25/2024 | N | (G) Alkanoic acid, substituted, polymer with substituted alkanoic acid, from fermentation of fermentable sugars.
P-23-0104 | 05/16/2024 | 04/17/2024 | N | (G) Sulfonium, carbomonocycle bis[(trihaloalkyl)carbomonocycle], disubstituted carbomonocyclic ester.
P-23-0176 | 05/16/2024 | 04/17/2024 | N | (G) Sulfonium, bis(dihalo carbomonocycle)carbomonocycle-, salt with dihalo-sulfoalkyl trisubstituted benzoate

In Table III of this unit, EPA provides the following information (to the extent such information is not subject to a CBI claim) on the test information that has been received during this time period: The EPA case number assigned to the test information; the date the test information was received by EPA, the type of test information submitted, and chemical substance identity.

Table III—Test Information Received From 5/01/2024 to 5/31/2024
Case No. | Received date | Type of test Information | Chemical substance
L-23-0189 | 05/16/2024 | Air Monitoring Test Data | (S) 1-propene, 3,3-diethoxy-.
L-24-0004 | 05/21/2024 | Allyl Chlorid PEL TWA & STEL Monitoring Test Data | (G) 3-alkene, 1-chloro-, (3z)-.
LM-24-0003 | 05/04/2024 | Algal Toxicity (OECD Test Guideline 201); Freshwater and Saltwater Fish Acute Toxicity Test (OECD Test Guideline 203); Bacterial Reverse Mutation Test (OECD Test Guideline 471); Aquatic Invertebrate Acute Toxicity Test, Freshwater Daphnids (OECD Test Guideline 202) | (G) Urea, (dialkylsubstituted)alkyl)-, polymer with polyether dialkanesalt.
P-07-0087 | 05/28/2024 | Analytical Data for Consent Order | (G) Partially fluorinated condensation polymer.
P-08-0200 | 05/28/2024 | Analytical Data for Consent Order | (G) Partially fluorinated amphiphilic condensation polymer.
P-08-0643 | 05/28/2024 | Analytical Data for Consent Order | (G) Fluorinated acrylic copolymer.
P-08-0748 | 05/24/2024 | Analytical Data for Consent Order | (G) Fluorinated acrylic copolymer.
P-09-0245 | 05/28/2024 | Analytical Data for Consent Order | (G) Partially fluorinated alcohol, reaction products with phosphorus oxide (P205), ammonium salts.
P-09-0293 | 05/28/2024 | Analytical Data for Consent Order | (G) Phosphoric acid, mixed esters with partially fluorinated alcohol, ammonium salts.
P-10-0058 | 05/28/2024 | Analytical Data for Consent Order | (G) Partially fluorinated alcohol substituted glycol.
P-11-0091 | 05/29/2024 | Analytical Data for Consent Order | (G) Fluorinated Acrylic Alkylamino Copolymer.
P-12-0450 | 05/29/2024 | Analytical Data for Consent Order | (G) Partially fluorinated alcohol, reaction products with phosphorus oxide (P2O5), amine salts.
P-16-0543 | 05/30/2024 | Exposure Monitoring Data | (G) Halogenophosphoric acid metal salt.
P-21-0202 | 05/29/2024 | Water Solubility: Column Elution Method; Shake Flask Method (OECD Test Guideline 105) | (G) Sulfonium, carbomonocycle bis[(trihaloalkyl)carbomonocycle], substituted carbomonocyclic ester.
P-22-0086 | 05/07/2024 | Water Solubility: Column Elution Method; Shake Flask Method (OECD Test Guideline 105) | (G) Phenoxathiinium, 10-phenyl-, 5-alkyl-2-alkyl-4-(2,4,6-substituted tri- carbopolycycle, hetero-acid)benzenesulfonate (1:1).
P-22-0122 | 05/07/2024 | Water Solubility: Column Elution Method; Shake Flask Method (OECD Test Guideline 105) | (G) Heterotrisubstituted-bile acid, 1-(difluorosulfomethyl)-2,2,2-trifluoroethyl ester, ion(1-), (5)-, 5-phenyldibenzothiophenium(1:1).
P-22-0139A | 05/23/2024 | Migration Screen Test Data | (G) Dialkylhydroxylamine.
P-23-0176, P-23-0179, P-24-0042 | 05/03/2024 | Direct Photolysis Study Reports, Beaker Photolysis Report, Water Solubility Report | (G) Sulfonium, bis(dihalo carbomonocycle)carbomonocycle-, salt with dihalo-sulfoalkyl trisubstituted benzoate; (G) Sulfonium, bis(dihalocarbomonocycle)carbomonocycle-, salt with substituted-dihalobenzoate; (G) Sulfonium, bis(dihalocarbomonocycle)carbomonocycle-, salt with (dihalo-sulfoalkyl) (halo-substituted carbomonocycle) carbopolycycle.
P-23-0176, P-23-0179, P-24-0042 | 05/08/2024 | Analytical Methods Development Reports, Direct Photolysis Study Report, Octanol Water Partition Coefficient Study Reports | (G) Sulfonium, bis(dihalo carbomonocycle)carbomonocycle-, salt with dihalo-sulfoalkyl trisubstituted benzoate; (G) Sulfonium, bis(dihalocarbomonocycle)carbomonocycle-, salt with substituted-dihalobenzoate; (G) Sulfonium, bis(dihalocarbomonocycle)carbomonocycle-, salt with (dihalo-sulfoalkyl) (halo-substituted carbomonocycle) carbopolycycle.
P-24-0062, P-24-0063, P-24-0064, P-24-0065, P-24-0066, P-24-0068 | 05/16/2024 | Vapor Pressure Data | (G) Fatty acids, reaction products with alkene polyamine, hydrochlorides; (G) Fatty acids, reaction products with alkene polyamine, hydrochlorides; (G) Fatty acids, reaction products with alkene polyamine, hydrochlorides; (G) Fatty acids, reaction products with alkene polyamine, hydrochlorides; (G) Fatty acid polyamine condensate, hydrochlorides; (G) Functionalized fatty acids, reaction products with alkene polyamines, hydrochlorides.
P-24-0133 | 04/22/2024 | Determination of the Number-Average Molecular Weight and the Molecular Weight Distribution of Polymers using Gel Permeation Chromatography (OECD Test Guideline 118); Determination of the Low Molecular Weight Content of a Polymer Using Gel Permeation Chromatography (OECD Test Guideline 119); In Vitro Skin Irritation: Reconstructed Human Epidermis Test Method (OECD Test Guideline 439); Algal Toxicity (OECD Test Guideline 201); Aquatic Invertebrate Acute Toxicity Test, Freshwater Daphnids (OECD Test Guideline 202); Reconstructed Human Cornea-like Epithelium (RhCE) Test Method (OECD Test Guideline 492); Freshwater and Saltwater Fish Acute Toxicity Test (OECD Test Guideline 203); Chronic Dephnid Toxicity Test (OECD Test Guideline 211); Melting Point/Melting Range (OECD Test Guideline 102) | (S) Siloxanes and silicones, di-me, hydrogen-terminated, polymers with 1,6-diisocyanatohexane and polyethylene glycol monoallyl ether, n3-[3-(dimethylamino)propyl]-n1,n1-dimethy1-1,3-propanediamine-blocked.
P-24-0135 | 04/19/2024 | Repeated Dose 90-Day Oral Toxicity Study in Rodents (OECD Test Guideline 408); Repeated Dose 14-Day Oral Toxicity Study in Rodents; Prenatal Developmental Toxicity Study (OECD Test Guideline 414); Bacterial Reverse Mutation Test (OECD Test Guideline 471); In Vitro Mammalian Cell Gene Mutation Tests Using the Thymidine Kinase Gene (OECD Test Guideline 490); In Vitro Mammalian Cell Micronucleus Test (OECD Test Guideline 487) | (S) Phosphoric acid, mono- and di-c16-18-alkyl esters.
P-24-0135 | 04/19/2024 | Earthworm Reproduction Test (OECD Test Guideline 222); Terrestrial Plant Test: Seedling Emergence and Seedling Growth Test (OECD Test Guideline 208); Soil Microorganisms: Nitrogen Transformation Test (OECD Test Guideline 216); Soil Microorganisms: Carbon Transformation Test (OECD Test Guideline 217) | (S) Phosphoric acid, mono- and di-c16-18-alkyl esters.
P-24-0135 | 04/19/2024 | Ready Biodegradability CO2 Evolution Test (OECD Test Guideline 301B); Feasibility Studies in Aerobic Aquatic Sediment and Aerobic Soil | (S) Phosphoric acid, mono- and di-c16-18-alkyl esters.
P-24-0135 | 04/19/2024 | Acute Oral Toxicity—Fixed Dose Method (OECD Test Guideline 420); In Vitro Skin Irritation (OECD Test Guideline 439); Bovine Corneal Opacity and Permeability Assay (OECD Test Guideline 437); Skin Sensitization: Local Lymph Node Assay (OECD Test Guideline 429) | (S) Phosphoric acid, mono- and di-c16-18-alkyl esters.
P-24-0135 | 04/19/2024 | Melting Point/Melting Range (OECD Test Guideline 102); Boiling Point/Boiling Range (OECD Test Guideline 103); Density/Relative Density/Bulk Densit (OECD Test Guideline 109); Surface Tension of Aqueous Solutions (OECD Test Guideline 115); Water Solubility: Column Elution Method; Shake Flask Method (OECD Test Guideline 105), Partition Coefficient (n-octanol/water), Estimation by Liquid Chromatography (OECD Test Guideline 117); Hydrolysis (OECD Test Guideline 111); Dissociation Constants in Water (OECD Test Guideline 112); Estimation of the Adsorption Coefficient (Koc) on Soil and on Sewage Sludge using High Performance Liquid Chromatography (HPLC) (OECD Test Guideline 121); Hazardous Physical Chemical Property Testing; Vapor Pressure (OECD Test Guideline 104); Flammability (OCSPP Test Guideline 830.6315) | (S) Phosphoric acid, mono- and di-c16-18-alkyl esters.
P-24-0135 | 04/19/2024 | Fish, Early-Life Stage Toxicity Test (OECD Test Guideline 210); Daphnia sp., Acute Immobilization Test (OECD Test Guideline 202); Daphnia magna Reproduction Test (OECD Test Guideline 211); Freshwater Alga and Cyanobacteria, Growth Inhibition Test (OECD Test Guideline 201); Activated Sludge, Respiration Inhibition Test (Carbon and Ammonium Oxidation) (OECD Test Guideline 209) | (S) Phosphoric acid, mono- and di-c16-18-alkyl esters.

If you are interested in information that is not included in these tables, you may contact EPA's technical information contact or general information contact as described under FOR FURTHER INFORMATION CONTACT to access additional non-CBI information that may be available.

Dated: July 8, 2024.
Todd Holderman,
Acting Director, Project Management and Operations Division, Office of Pollution Prevention and Toxics.

[FR Doc. 2024-15255 Filed 7-10-24; 8:45 am]

BILLING CODE 6560-50-P